DEPARTMENT OF ENERGY

Federal Energy Regulatory Commission

Combined Notice of Filings #1

Take notice that the Commission received the following electric rate filings:

Docket Numbers: ER10-2835-009.

Applicants: Google Energy LLC.

Description: Erratum to December 18, 2018 Triennial Market Power Analysis for the SPP Region of Google Energy LLC.

Filed Date: 4/9/19.

Accession Number: 20190409-5161.

Comments Due: 5 p.m. ET 4/30/19.

Docket Numbers: ER16-120-008.

Applicants: New York Independent System Operator, Inc.

Description: Compliance filing: Compliance: physical withholding determinations—generator deactivation process to be effective 7/23/2018.

Filed Date: 4/10/19.

Accession Number: 20190410-5143.

Comments Due: 5 p.m. ET 5/1/19.

Docket Numbers: ER19-1541-000.

Applicants: Midcontinent Independent System Operator, Inc.

Description: Supplement to April 9, 2019 Pre-Arranged/Pre-Agreed (Stipulation and Offer of Settlement) Filing, et al. of the Midcontinent Independent System Operator, Inc., et al.

Filed Date: 4/10/19.

Accession Number: 20190410-5088.

Comments Due: 5 p.m. ET 5/1/19.

Docket Numbers: ER19-1542-000.

Applicants: California Independent System Operator Corporation.

Description: § 205(d) Rate Filing: 2019-04-09 Bid Generation Exemption Amendment—Request Expedited Treatment to be effective 4/1/2019.

Filed Date: 4/9/19.

Accession Number: 20190409-5125.

Comments Due: 5 p.m. ET 4/23/19.

Docket Numbers: ER19-1543-000.

Applicants: Virginia Electric and Power Company, PJM Interconnection, L.L.C.

Description: § 205(d) Rate Filing: Dominion submits revisions to OATT, Att. H-16C re: 2018 Actual OPEB Expenses to be effective 6/15/2019.

Filed Date: 4/10/19.

Accession Number: 20190410-5028.

Comments Due: 5 p.m. ET 5/1/19.

Docket Numbers: ER19-1544-000.

Applicants: Mid-Atlantic Interstate Transmission, LLC, PJM Interconnection, L.L.C.

Description: § 205(d) Rate Filing: MAIT submits an ECSA, Service Agreement No. 5270 with PPL Electric to be effective 6/9/2019.

Filed Date: 4/10/19.

Accession Number: 20190410-5051.

Comments Due: 5 p.m. ET 5/1/19.

Docket Numbers: ER19-1545-000.

Applicants: American Transmission Systems, Incorporated, PJM Interconnection, L.L.C.

Description: § 205(d) Rate Filing: ATSI submits Revised Interconnection Agreement (IA) SA No. 3994 to be effective 6/9/2019.

Filed Date: 4/10/19.

Accession Number: 20190410-5054.

Comments Due: 5 p.m. ET 5/1/19.

Docket Numbers: ER19-1546-000.

Applicants: PJM Interconnection, L.L.C., American Transmission Systems, Incorporated.

Description: § 205(d) Rate Filing: ATSI submits an ECSA, Service Agreement No. 5277 with Cleveland Electric to be effective 6/9/2019.

Filed Date: 4/10/19.

Accession Number: 20190410-5101.

Comments Due: 5 p.m. ET 5/1/19.

Docket Numbers: ER19-1547-000.

Applicants: Southern California Edison Company.

Description: § 205(d) Rate Filing: IFA & DSA Rincon Project SA Nos. 1077 and 1078 to be effective 6/10/2019.

Filed Date: 4/10/19.

Accession Number: 20190410-5110.

Comments Due: 5 p.m. ET 5/1/19.

Take notice that the Commission received the following public utility holding company filings:

Docket Numbers: PH19-9-000.

Applicants: KeyCorp.

Description: FERC 65-B Notice of Material Change in Facts of Waiver Notification.

Filed Date: 4/10/19.

Accession Number: 20190410-5076.

Comments Due: 5 p.m. ET 5/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2019.
Nathaniel J. Davis, Sr.,
Deputy Secretary.

[FR Doc. 2019-07772 Filed 4-17-19; 8:45 am]

BILLING CODE 6717-01-P